DEPARTMENT OF THE INTERIOR

National Park Service

[NPS-WASO-NRNHL-20259; PPWOCRADI0, PCU00RP14.R50000]

National Register of Historic Places; Notification of Pending Nominations and Related Actions

AGENCY: National Park Service, Interior.

ACTION: Notice.

SUMMARY: The National Park Service is soliciting comments on the significance of properties nominated before January 30, 2016, for listing or related actions in the National Register of Historic Places.

DATES: Comments should be submitted by March 15, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before January 30, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

Boomer, Jorgine, House, 5808 N. 30th St., Phoenix, 16000071

Hilvert, Fred G., House, 106 E. Country Club Dr., Phoenix, 16000072

COLORADO

Adams County

Colorado Sanitary Canning Factory, 224 N. Main St., Brighton, 16000073

Garfield County

Western Hotel, 716 Cooper Ave., Glenwood Springs, 16000074

INDIANA

Boone County

Simpson—Breedlove House, (Eagle Township and Pike Township, Indiana MPS) 3650 US 421, Zionsville, 16000075

Lawrence County

Clampitt Site, Address Restricted, Bedford, 16000076

Marion County

Indianapolis Public Library Branch No. 3, 2822 E. Washington St., Indianapolis, 16000077

Indianapolis Public Library Branch No. 6, 1801 Nowland Ave., Indianapolis, 16000078

Oriental Lodge No. 500, 2201 Central, Indianapolis, 16000079

Marshall County

Erwin House, 2518 14-B Rd., Bourbon, 16000080

IOWA

Hardin County

New Providence Building Association Stores, 401-405 W. Main Street Dr., New Providence, 16000081

Jones County

Farm Creek Historic District, Address Restricted, Cascade, 16000083

Kenny Farmstead Archeological District, Address Restricted, Cascade, 16000082

MISSOURI

Cape Girardeau County

Chapman, Dr. Jean, House, 1150 N. Henderson Ave., Cape Girardeau, 16000084

Jackson County

Peters, Charles and Josephine, House, 1228 W. 55th St., Kansas City, 16000085

OKLAHOMA

Logan County

Excelsior Library, 323 S. 2nd St., Guthrie, 16000087

Oklahoma County

Lincoln Plaza Historic District, 4345-4545 N. Lincoln Blvd., 416 NE. 46th St., Oklahoma City, 16000086

OREGON

Multnomah County

Arleta Branch Library, 4420 SE. 64th Ave., Portland, 16000088

RHODE ISLAND

Washington County

Perry Homestead Historic District, 2, 4, 8, 12, 16 Margin & 15, 17 Beach Sts., Westerly, 16000089

SOUTH CAROLINA

Spartanburg County

Inman Mills, (Textile Mills designed by W.B. Smith Whaley MPS) 240 4th St., Inman, 16000090

WISCONSIN

Brown County

Allouez Pump House, 535 Greene Ave., Allouez, 16000091

Allouez Water Department and Town Hall, 2143 S. Webster Ave., Allouez, 16000092

A request for removal was received for the following resources:

IOWA

Johnson County

Van Patten House, 9 S. Linn St., Iowa City, 83000379

Scott County

Fisher, Lewis M., House, 1003 Arlington Ave., Davenport, 83002432

Van Buren County

Goodin Building, North 106 Front St., Farmington, 02000505

Winnebago County

Forest City Public Library, E. I St. and Clark, Forest City, 84001609

Authority: 60.13 of 36 CFR part 60

Dated: February 4, 2016.
J. Paul Loether,
Chief, National Register of Historic Places/National Historic Landmarks Program.

[FR Doc. 2016-04342 Filed 2-26-16; 8:45 am]

BILLING CODE 4312-51-P